DEPARTMENT OF TRANSPORTATION

14 CFR Part 71

[Airspace Docket No. 02-AGL-02]

Modification of Class E airspace; Tecumseh, MI; Correction

AGENCY: Federal Aviation Administration (FAA), DOT.

ACTION: Final rule; correction.

SUMMARY: This action corrects an error contained in a final rule that was published in the Federal Register on Wednesday, July 10, 2002 (67 FR 45632). The final rule modified Class E airspace at Tecumseh, MI.

EFFECTIVE DATE: 0901 UTC, October 3, 2002.

FOR FURTHER INFORMATION CONTACT: Denis C. Burke, Air Traffic Division, Airspace Branch, AGL-520, Federal Aviation Administration, 2300 East Devon Avenue, Des Plaines, IL 60018, telephone: (847) 294-777.

SUPPLEMENTARY INFORMATION:

History

Federal Register Document 02-17369 published on Wednesday, July 10, 2002 (67 FR 45632), modified Class E Airspace at Tecumseh, MI. The Docket contained an incorrect latitude and longitude for Tecumseh Products Airport, MI. This action corrects that error, by replacing the incorrect latitude and longitude with the correct latitude and longitude.

Accordingly, pursuant to the authority delegated to me, the error for the Class E Airspace, Tecumseh, MI, as published in the Federal Register Wednesday, July 10, 2002 (67 FR 45632), (FR Doc. 02-17369), is corrected as follows:

§ 71.1 [Corrected]

1. On page 45632, Column 3, in the legal description under Tecumseh, Tecumseh Products Airport, MI, correct “(Lat. 42°01′06″ N., long. 83°52′42″ W.)” to read “(Lat. 42°01′58″ N., long. 83°52′42″ W.)”.

* * * * *

Issued in Des Plaines, Illinois on August 22, 2002.
Nancy B. Shelton,
Manager, Air Traffic Division, Great Lakes Region.

[FR Doc. 02-23831 Filed 9-18-02; 8:45 am]

BILLING CODE 4910-13-M